DEPARTMENT OF TRANSPORTATION

Federal Aviation Administration

14 CFR Part 39

[Docket No. FAA-2007-28944; Directorate Identifier 2006-NM-239-AD]

RIN 2120-AA64

Airworthiness Directives; Airbus Model A300 Series Airplanes and Airbus Model A300-600 Series Airplanes

AGENCY: Federal Aviation Administration (FAA), Department of Transportation (DOT).

ACTION: Notice of proposed rulemaking (NPRM).

SUMMARY: We propose to adopt a new airworthiness directive (AD) for the products listed above. This proposed AD results from mandatory continuing airworthiness information (MCAI) issued by an aviation authority of another country to identify and correct an unsafe condition on an aviation product. The MCAI describes the unsafe condition as:

[T]he detection of cracks on multiple aircraft in lower skin panel No. 2 forward of access panel 575FB/675FB held on the rear dummy spar, inboard of rib 9, fuselage side, aft of the rear spar.

This area of structure has been subjected to several repairs and modifications in previous years.

The AIRBUS Service Bulletins (SB) A300-57-0177 at Revision 3 and A300-57-6029 at Revision 4 define the various configurations for the mandatory inspections to be conducted in order to control or correct the development of cracks which could affect the structural integrity of the aircraft.

The proposed AD would require actions that are intended to address the unsafe condition described in the MCAI.

DATES: We must receive comments on this proposed AD by September 17, 2007.

ADDRESSES: You may send comments by any of the following methods:

• DOT Docket Web Site: Go to http://dms.dot.gov and follow the instructions for sending your comments electronically.

• Fax: (202) 493-2251.

• Mail: U.S. Department of Transportation, Docket Operations, M-30, West Building Ground Floor, Room W12-140, 1200 New Jersey Avenue, SE., Washington, DC 20590.

• Hand Delivery: Room W12-140 on the ground floor of the West Building, 1200 New Jersey Avenue, SE., Washington, DC, between 9 a.m. and 5 p.m., Monday through Friday, except Federal holidays.

• Federal eRulemaking Portal: http://www.regulations.gov. Follow the instructions for submitting comments.

Examining the AD Docket

You may examine the AD docket on the Internet at http://dms.dot.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This proposed AD references the MCAI and related service information that we considered in forming the engineering basis to correct the unsafe condition. The proposed AD contains text copied from the MCAI and for this reason might not follow our plain language principles.

Comments Invited

We invite you to send any written relevant data, views, or arguments about this proposed AD. Send your comments to an address listed under the ADDRESSES section. Include “Docket No. FAA-2007-28944; Directorate Identifier 2006-NM-239-AD” at the beginning of your comments. We specifically invite comments on the overall regulatory, economic, environmental, and energy aspects of this proposed AD. We will consider all comments received by the closing date and may amend this proposed AD because of those comments.

We will post all comments we receive, without change, to http://dms.dot.gov, including any personal information you provide. We will also post a report summarizing each substantive verbal contact we receive about this proposed AD.

Discussion

The European Aviation Safety Agency (EASA), which is the Technical Agent for the Member States of the European Community, has issued EASA Airworthiness Directive 2006-0282, dated September 12, 2006 (referred to after this as “the MCAI”), to correct an unsafe condition for the specified products. The MCAI states:

This Airworthiness Directive (AD) is published subsequent to the detection of cracks on multiple aircraft in lower skin panel No. 2 forward of access panel 575FB/675FB held on the rear dummy spar, inboard of rib 9, fuselage side, aft of the rear spar.

This area of structure has been subjected to several repairs and modifications in previous years.

The AIRBUS Service Bulletins (SB) A300-57-0177 at Revision 3 and A300-57-6029 at Revision 4 define the various configurations for the mandatory inspections to be conducted in order to control or correct the development of cracks which could affect the structural integrity of the aircraft.

The MCAI requires various repetitive inspections (detailed visual, high frequency eddy current, x-ray) of the wing lower skin panel and associated internal support structure for cracking and, if necessary, corrective measures (modifying the lower panel inboard of rib 9 aft of the rear spar and repairing cracks). You may obtain further information by examining the MCAI in the AD docket.

Relevant Service Information

Airbus has issued Service Bulletins A300-57-0177, Revision 05, dated March 23, 2007; and A300-57-6029, Revision 06, dated March 23, 2007. The compliance times for the initial inspections range approximately from 200 flight cycles or 320 flight hours, whichever occurs first, to 46,700 flight cycles or 63,900 flight hours, whichever occurs first, depending on the model and configuration. The compliance times for the repetitive inspections range from 50 flight cycles or 50 flight hours, whichever occurs first, to 3,600 flight cycles or 8,170 flight hours, whichever occurs first, depending on the model and configuration. The actions described in this service information are intended to correct the unsafe condition identified in the MCAI.

FAA's Determination and Requirements of This Proposed AD

This product has been approved by the aviation authority of another country, and is approved for operation in the United States. Pursuant to our bilateral agreement with the State of Design Authority, they have notified us of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 162 products of U.S. registry. We also estimate that it would take about 2 work-hours per product to comply with the basic requirements of this proposed AD. The average labor rate is $80 per work-hour. Based on these figures, we estimate the cost of the proposed AD on U.S. operators to be $25,920, or $160 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

AIRBUS: Docket No. FAA-2007-28944; Directorate Identifier 2006-NM-239-AD.

Comments Due Date

(a) We must receive comments by September 17, 2007.

Affected ADs

(b) None.

Applicability

(c) This AD applies to Airbus Model A300 series airplanes and Model A300-600 series airplanes; certificated in any category; all certified models, all serial numbers.

Subject

(d) Wings.

Reason

(e) The mandatory continuing airworthiness information (MCAI) states:

This Airworthiness Directive (AD) is published subsequent to the detection of cracks on multiple aircraft in lower skin panel No. 2 forward of access panel 575FB/675FB held on the rear dummy spar, inboard of rib 9, fuselage side, aft of the rear spar.

This area of structure has been subjected to several repairs and modifications in previous years.

The AIRBUS Service Bulletins (SB) A300-57-0177 at Revision 3 and A300-57-6029 at Revision 4 define the various configurations for the mandatory inspections to be conducted in order to control or correct the development of cracks which could affect the structural integrity of the aircraft.

The MCAI requires doing repetitive inspections (detailed visual, high frequency eddy current, x-ray) of the wing lower skin panel and associated internal support structure for cracking and, if necessary, doing corrective measures (modifying the lower panel inboard of rib 9 aft of the rear spar and repairing cracks).

Actions and Compliance

(f) Unless already done, do the following actions.

(1) Except as provided by paragraphs (f)(1)(i), (f)(1)(ii), (f)(1)(iii), and (f)(1)(iv) of this AD: At the threshold specified in paragraph 1.E.(2) of Airbus Service Bulletin A300-57-0177, Revision 05, dated March 23, 2007; or A300-57-6029, Revision 06, dated March 23, 2007; as applicable; perform the inspection of the wing lower skin panel and associated internal support structure aft of the rear spar and inboard of rib 9 and apply applicable corrective measures in accordance with Airbus Service Bulletin A300-57-0177, Revision 05, dated March 23, 2007; or A300-57-6029, Revision 06, dated March 23, 2007; as applicable. All applicable corrective measures must be done at the applicable times specified in paragraph 1.E.(2) and the Accomplishment Instructions of the applicable service bulletin.

(i) Where the tables in paragraph 1.(E).(2), “Accomplishment Timescale,” of the service bulletins specify a grace period for doing the actions, this AD requires that the action be done within the specified grace period relative to the effective date of this AD.

(ii) Where the tables in paragraph 1.E.(2)(e), “config 04,” of Airbus Service Bulletin A300-57-0177, Revision 05, specify an inspection interval but not an initial threshold, this AD requires that the actions be done within the specified interval after inspecting in accordance with Table 1A or 1B, as applicable, for configuration 01 of the service bulletin and thereafter at the inspection interval specified in the tables in paragraph 1.E.(2)(e), “config 04,” of Airbus Service Bulletin A300-57-0177, Revision 05.

(iii) Where the tables in paragraph 1.E.(2)(f), “config 05,” of A300-57-6029, Revision 06, specify an inspection interval but not an initial threshold, this AD requires that the actions be done within the specified interval after inspecting in accordance with Table 1A or 1B, as applicable, for configuration 01 of the service bulletin and thereafter at the inspection interval specified in the tables in paragraph 1.E.(2)(f), “config 05,” of A300-57-6029, Revision 06.

(iv) All crack lengths specified in Airbus Service Bulletin A300-57-0177, Revision 05, and A300-57-6029, Revision 06, are considered “not to exceed” lengths.

(2) Repeat the inspection at the intervals in, and according to the instructions defined in, Airbus Service Bulletin A300-57-0177, Revision 05, dated March 23, 2007; or A300-57-6029, Revision 06, dated March 23, 2007; as applicable.

(3) Report to Airbus the first inspection results, whatever they may be, at the applicable time specified in paragraph (e)(3)(i) or (e)(3)(ii) of this AD.

(i) If the inspection was done after the effective date of this AD, submit the report within 30 days after the inspection.

(ii) If the inspection was accomplished prior to the effective date of this AD, submit the report within 30 days after the effective date of this AD.

(4) Actions accomplished before the effective date of this AD in accordance with Airbus Service Bulletin A300-57-0177, Revision 03, dated May 29, 2006; Airbus Service Bulletin A300-57-0177, Revision 04, dated January 5, 2007; Airbus Service Bulletin A300-57-6029, Revision 04, dated May 29, 2006; or A300-57-6029, Revision 05, dated October 23, 2006; are considered acceptable for compliance with the corresponding action specified in this AD.

FAA AD Differences

Note: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Stafford, Aerospace Engineer, International Branch, ANM-116, FAA, Transport Airplane Directorate, 1601 Lind Avenue, SW., Renton, Washington 98057-3356; telephone (425) 227-1622; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2006-0282, dated September 12, 2006; and the service information in Table 1 of this AD; for related information.

Table 1.—Service Information
Airbus Service Bulletin | Revision level | Date
A300-57-0177 | 05 | March 23, 2007.
A300-57-0222 | 01 | March 13, 2006.
A300-57-6029 | 06 | March 23, 2007.
A300-57-6064 | 04 | March 9, 2006.

Issued in Renton, Washington, on July 31, 2007.
Ali Bahrami,
Manager, Transport Airplane Directorate, Aircraft Certification Service.

[FR Doc. E7-16097 Filed 8-15-07; 8:45 am]

BILLING CODE 4910-13-P